ENVIRONMENTAL PROTECTION AGENCY

40 CFR Parts 141 and 142

[EPA-HQ-OW-2008-0878; FRL-9906-88-OW]

National Primary Drinking Water Regulations: Minor Corrections to the Revisions to the Total Coliform Rule

AGENCY: Environmental Protection Agency (EPA).

ACTION: Proposed rule.

SUMMARY: In this action, the Environmental Protection Agency (EPA) is proposing minor corrections to the final Revisions to the Total Coliform Rule (RTCR), as authorized under the Safe Drinking Water Act, to correct typographical errors in sections relating to recordkeeping and State primacy requirements, which could affect implementation and enforcement of the RTCR if they were left uncorrected. This proposed action also includes other edits to the final rule language that are intended to improve the understanding of the rule and avoid confusion. This proposed action does not impose new requirements; rather it clarifies what must be included in States' primacy applications related to this rule and the specific records water systems must keep. In the “Rules and Regulations” section of this Federal Register, EPA is making these minor corrections and edits to the final RTCR as a direct final rule without a prior proposed rule. If we receive no adverse comment, we will not take further action on this proposed rule.

DATES: Written comments must be received by March 28, 2014.

ADDRESSES: Submit your comments, identified by Docket ID No. EPA-HQ-OW-2008-0878, by mail to Water Docket, Environmental Protection Agency, Mailcode: 2822T, 1200 Pennsylvania Ave. NW., Washington, DC 20460. Comments may also be submitted electronically or through hand delivery/courier by following the detailed instructions in the ADDRESSES section of the direct final rule located in the rules section of this Federal Register.

FOR FURTHER INFORMATION CONTACT: Sean Conley, Standards and Risk Management Division, Office of Ground Water and Drinking Water (MC-4607M), Environmental Protection Agency, 1200 Pennsylvania Ave. NW., Washington, DC 20460; telephone number: (202) 564-1781; email address: conley.sean@epa.gov. For general information, contact the Safe Drinking Water Hotline, telephone number: (800) 426-4791. The Safe Drinking Water Hotline is open Monday through Friday, excluding legal holidays, from 10 a.m. to 4 p.m. Eastern time.

SUPPLEMENTARY INFORMATION:

I. General Information

A. Why is EPA issuing this proposed rule?

EPA is proposing minor corrections to the final Revisions to the Total Coliform Rule (RTCR) to correct typographical errors in sections relating to recordkeeping and State primacy requirements, which could affect implementation and enforcement of the RTCR if left uncorrected. This proposed action also includes other edits to the final rule language that are intended to improve the understanding of the rule and avoid confusion. This proposed action does not impose new requirements; rather it clarifies what must be included in States' primacy applications related to this rule and the specific records water systems must keep.

II. Regulated Categories and Entities

Entities potentially regulated by the proposed corrections to the final RTCR are all public water systems (PWSs). Regulated categories and entities include the following:

Category | Examples of regulated entities
Industry | Privately-owned community water systems (CWSs), transient non-community water systems (TNCWSs), and non-transient non-community water systems (NTNCWSs).
Federal, State, Tribal, and local governments | Publicly-owned CWSs, TNCWSs, and NTNCWSs.

This table is not intended to be exhaustive, but rather provides a guide for readers regarding entities regulated by this action. This table lists the types of entities that EPA is now aware of that could potentially be regulated by this action. Other types of entities not listed in the table could also be regulated. To determine whether your facility is regulated by this action, you should carefully examine the definition of “public water system” in § 141.2 and the section entitled “Coverage” in § 141.3 in title 40 of the Code of Federal Regulations (CFR), and the applicability criteria in § 141.851(b) of the final RTCR. If you have questions regarding the applicability of this action to a particular entity, consult the person listed in the preceding FOR FURTHER INFORMATION CONTACT section.

C. Copies of This Document and Other Related Information

This document is available for download at http://water.epa.gov/lawsregs/rulesregs/sdwa/tcr/regulation_revisions.cfm. For other related information, see the docket section of the direct final rule located in the rules section of this Federal Register.

D. Minor Corrections to the Revisions to the Total Coliform Rule (RTCR)

Today's proposed rule corrects, as authorized under the Safe Drinking Water Act (SDWA), two typographical errors in the final RTCR (78 FR 10269, February 13, 2013) rule language. First, this proposed action corrects a mistaken cross-reference regarding water system recordkeeping requirements for assessment forms and documentation of corrective actions and sanitary defects. EPA is correcting the cross-reference at § 141.861(b)(1) to correctly provide that assessments, corrective actions and identification of sanitary defects are required under the treatment technique requirements of section 141.859 of the final RTCR. The burden for these recordkeeping requirements was reflected in the Revised Total Coliform Rule and in section 7 of the Economic Analysis (EA) for the Revised Total Coliform Rule (EPA-815-R-12-004).

EPA also discussed these requirements in the preamble to the final RTCR on page 10295. Second, today's proposed rule also corrects the introductory paragraph at § 142.16(q)(2) to correctly indicate that the State's application for primacy must contain a written description of all provisions included in the subsections of the paragraph, (q)(2)(i) through (q)(2)(ix). It was always EPA's intent that primacy applications must contain a written description of all provisions in 142.16(q)(2), but when EPA added subparagraph (q)(2)(ix) to the final rule, EPA neglected to change the numbering in the paragraph (2) lead-in to the list of elements. EPA intended this to be the case, as demonstrated in the preamble to the final RTCR on page 10301. In addition, the burden for this State activity was also included in section 7 of the Economic Analysis (EA) for the RTCR. EPA is not developing a new EA for today's action because the EA for the final RTCR accounts for all costs associated with this rule.

Today's proposed rule also corrects the numbering in § 141.855(a) by adding subparagraph (d)(2) and reserving it, to most simply correct a numbering error that identified a subparagraph (d)(1) without a subsequent (d)(2). Correcting the numbering in this fashion will not interfere with any cross references to subparagraph (d)(1).

Today's proposed rule also includes clarifying revisions to the language regarding primacy applications in § 142.16(q)(2)(ii) to make it more clear in the special primacy requirements section of the RTCR that systems must implement at least one of listed additional criteria to qualify for reduced monitoring. EPA clearly intended this to be the case, as reflected in § 141.854(h)(2) for NCWSs and § 141.855(d) for CWSs, and in the preamble to the final RTCR at pages 10281 and 10282.

Next, the final rule clarifies situations requiring public notification in Appendix A to Subpart Q of Part 141 to list out all of the possible reporting violations under the RTCR that will require Tier 3 public notice. EPA clearly intended this to be the case, as reflected in item (6) in Table 1 to § 141.204 (Violation Categories and Other Situations Requiring a Tier 3 Public Notice), which provides that all reporting and recordkeeping violations under the RTCR require Tier 3 public notice. Also, page 10294 of the preamble to the final RTCR clearly states that Tier 3 PN is required for both monitoring and reporting violations under the RTCR.

Finally, the final rule clarifies the analytical methods table in § 141.852(a)(5) to place the citation “Standard Methods Online 9223 B-97” for the Colilert analytical method in the correct column.

These revisions do not change any rule requirements, are consistent with the rule requirements as intended by the Total Coliform Rule/Distribution System Advisory Committee that recommended the revisions to the Total Coliform Rule, and are intended only to clarify requirements and reduce confusion.

II. Additional Supplementary Information

We are publishing a Direct Final Rule to this parallel proposal in the final rule section of today's Federal Register. Additional supplementary information is available in the Direct Final Rule, “National Primary Drinking Water Regulation: Minor Corrections to the Revisions to the Total Coliform Rule.”

Dated: February 10, 2014.
Gina McCarthy,
Administrator.

[FR Doc. 2014-04171 Filed 2-25-14; 8:45 am]

BILLING CODE 6560-50-P